DEPARTMENT OF THE INTERIOR

Bureau of Land Management

[OR-010-1020-PK; HAG 05-0091]

Meeting Notice for the Southeast Oregon Resource Advisory Council

AGENCY: Bureau of Land Management (BLM), Lakeview District.

ACTION: Meeting Notice for the Southeast Oregon Resource Advisory Council.

SUMMARY: The Southeast Oregon Resource Advisory Council (SEORAC) will hold a meeting for all members from 8 a.m. to 5 p.m. Pacific Time (P.T.), Thursday, May 5, 2005 at the Lakeview Interagency Office, Conference Room, 1301 South G Street, Lakeview, Oregon 97630. Friday May 6, 2005 there will be a field tour of the Perlite Mine, Juniper restoration projects, streamside ecological site inventory demonstration around the Paisley, Oregon area. Members of the public may attend the meeting and field tour in person. An optional tour to the Beaty Butte area may be conducted on Saturday May 7, 2005.

The meeting topics that may be discussed by the Council include a discussion of issues within Southeast Oregon related to: Approval of past minutes, Introduction of the new District Manager, update of the Oregon Sage-grouse Plan. Owyhee River below the dam RMP update, North Lake Recreation Plan update, Wild Horse and Burro update, statewide overview of energy issues, report on implementation of Healthy Forest Plan, liaison reports and Federal Official reports. Reports from the subcommittees, brief overview of local BLM and FS funding for this year and next year and other issues that may come before the Council.

Information to be distributed to the Council members is requested in written format 10 days prior to the Council meeting. Public comment is scheduled for 11:45 a.m. (P.T.) on Thursday May 5, 2005.

FOR FURTHER INFORMATION CONTACT: Additional information concerning the SEORAC meeting may be obtained from Pam Talbott, Contact Representative, Lakeview Interagency Office, 1301 South G Street, Lakeview, OR 97630, (541) 947-6107, or ptalbott@or.blm.gov and/or from the following Web site http://www.or.blm.gov/SEOR-RAC.

Dated: March 30, 2005.
Shirley Gammon,
Manager, Lakeview District.

[FR Doc. 05-6677 Filed 4-4-05; 8:45 am]

BILLING CODE 4310-33-P